FEDERAL MARITIME COMMISSION

Performance Review Board

AGENCY: Federal Maritime Commission.

ACTION: Notice.

SUMMARY: Notice is hereby given of the names of the members of the Performance Review Board.

FOR FURTHER INFORMATION CONTACT: Harriette H. Charbonneau, Director of Human Resources, Federal Maritime Commission, 800 North Capitol Street, NW., Washington, DC 20573.

SUPPLEMENTARY INFORMATION: Sec. 4314(c) (1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

Steven R. Blust,
Chairman.

The Members of the Performance Review Board Are:

1. Joseph E. Brennan, Commissioner

2. Harold J. Creel, Jr., Commissioner

3. Rebecca F. Dye, Commissioner

4. Delmond J.H. Won, Commissioner

5. Norman D. Kline, Chief Administrative Law Judge

6. Frederick M. Dolan, Jr., Administrative Law Judge

7. Michael A. Rosas, Administrative Law Judge

8. Bryant L. VanBrakle, Secretary

9. Bruce A. Dombrowski, Executive Director

10. Florence A. Carr, Director, Bureau of Trade Analysis

11. Vern W. Hill, Director, Bureau of Enforcement

12. Sandra L. Kusumoto, Director, Bureau of Consumer Complaints and Licensing

13. Austin L. Schmitt, Deputy Executive Director

[FR Doc. 03-15081 Filed 6-13-03; 8:45 am]

BILLING CODE 6730-01-P